DEPARTMENT OF COMMERCE

International Trade Administration

[C-570-968]

Aluminum Extrusions From the People's Republic of China: Preliminary Results of Countervailing Duty Administrative Review and Intent To Rescind, in Part; 2017

AGENCY: Enforcement and Compliance, International Trade Administration, Department of Commerce.

SUMMARY: The Department of Commerce (Commerce) preliminarily determines that countervailable subsidies have been provided to producers and exporters of aluminum extrusions from the People's Republic of China (China) for the period of review (POR) January 1, 2017 through December 31, 2017. Interested parties are invited to comment on these preliminary results.

DATES: Applicable March 15, 2019.

FOR FURTHER INFORMATION CONTACT: Davina Friedmann, AD/CVD Operations, Office VI, Enforcement and Compliance, International Trade Administration, U.S. Department of Commerce, 1401 Constitution Avenue NW, Washington, DC 20230; telephone: (202) 482-0698.

SUPPLEMENTARY INFORMATION:

Background

Commerce published the notice of initiation of this administrative review on July 12, 2018, covering 243 companies.¹ On October 10, 2018, all requests for review were withdrawn for all but five companies: Anshan Zhongjda Industry Co., Ltd. (Anshan), Foshan Shanshui Fenglu Aluminum Co., Ltd. (Foshan), Jangho Curtain Wall Hong Kong Ltd. (Jangho H.K.), Sihui Shi Guo Yao Aluminum Co., Ltd. (Sihui Shi), and Sincere Profit Limited (Sincere Profit).²

¹ See Initiation of Antidumping and Countervailing Duty Administrative Reviews, 83 FR 32270 (July 12, 2018) (Initiation Notice).

² See Letter from the Aluminum Extrusions Fair Trade Committee (the petitioner) and Endura Products, Inc. (Endura), “Aluminum Extrusions from the People's Republic of China: Withdrawal of Request for Administrative Review,” dated October 10, 2018 (Petitioner and Endura Withdrawal Request); see also Letter from Columbia Aluminum Products (Columbia), “Aluminum Extrusions from China,” dated October 10, 2018 (Columbia Withdrawal Request); see also Letter from Columbia, “Aluminum Extrusions from China,” dated February 12, 2019 (Columbia Revised Withdrawal Request).

Commerce exercised its discretion to toll all deadlines affected by the partial federal government closure from December 22, 2018 through the resumption of operations on January 29, 2019.³ If the new deadline falls on a non-business day, in accordance with Commerce's practice, the deadline will become the next business day. Accordingly, the revised deadline for the preliminary results of this review is now March 12, 2019.

³ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

For a complete description of the events that followed the initiation of this review, see the Preliminary Decision Memorandum, which is dated concurrently with, and hereby adopted by this notice.⁴ A list of topics discussed in the Preliminary Decision Memorandum is included as Appendix I to this notice. The Preliminary Decision Memorandum is a public document and is on file electronically via Enforcement and Compliance's Antidumping and Countervailing Duty Centralized Electronic Service System (ACCESS). ACCESS is available to registered users at http://access.trade.gov; this memorandum is available to all parties in the Central Records Unit, Room B8024 of the main Department of Commerce building. In addition, a complete version of the Preliminary Decision Memorandum can be accessed directly at http://enforcement.trade.gov/frn/. The signed and electronic versions of the Preliminary Decision Memorandum are identical in content.

⁴ See Memorandum, “Decision Memorandum for the Preliminary Results of Countervailing Duty Administrative Review and Intent to Rescind, in Part; 2017,” dated concurrently with, and hereby adopted by, this notice (Preliminary Decision Memorandum).

Scope of the Order

The merchandise covered by the order is aluminum extrusions which are shapes and forms, produced by an extrusion process, made from aluminum alloys having metallic elements corresponding to the alloy series designations published by The Aluminum Association commencing with the numbers 1, 3, and 6 (or proprietary equivalents or other certifying body equivalents).

Imports of the subject merchandise are provided for under the following categories of the Harmonized Tariff Schedule of the United States (HTSUS): 8541.90.00.00, 8708.10.30.50, 8708.99.68.90, 6603.90.8100, 7616.99.51, 8479.89.94, 8481.90.9060, 8481.90.9085, 9031.90.9195, 8424.90.9080, 9405.99.4020, 9031.90.90.95, 7616.10.90.90, 7609.00.00, 7610.10.00, 7610.90.00, 7615.10.30, 7615.10.71, 7615.10.91, 7615.19.10, 7615.19.30, 7615.19.50, 7615.19.70, 7615.19.90, 7615.20.00, 7616.99.10, 7616.99.50, 8479.89.98, 8479.90.94, 8513.90.20, 9403.10.00, 9403.20.00, 7604.21.00.00, 7604.29.10.00, 7604.29.30.10, 7604.29.30.50, 7604.29.50.30, 7604.29.50.60, 7608.20.00.30, 7608.20.00.90, 8302.10.30.00, 8302.10.60.30, 8302.10.60.60, 8302.10.60.90, 8302.20.00.00, 8302.30.30.10, 8302.30.30.60, 8302.41.30.00, 8302.41.60.15, 8302.41.60.45, 8302.41.60.50, 8302.41.60.80, 8302.42.30.10, 8302.42.30.15, 8302.42.30.65, 8302.49.60.35, 8302.49.60.45, 8302.49.60.55, 8302.49.60.85, 8302.50.00.00, 8302.60.90.00, 8305.10.00.50, 8306.30.00.00, 8414.59.60.90, 8415.90.80.45, 8418.99.80.05, 8418.99.80.50, 8418.99.80.60, 8419.90.10.00, 8422.90.06.40, 8473.30.20.00, 8473.30.51.00, 8479.90.85.00, 8486.90.00.00, 8487.90.00.80, 8503.00.95.20, 8508.70.00.00, 8515.90.20.00, 8516.90.50.00, 8516.90.80.50, 8517.70.00.00, 8529.90.73.00, 8529.90.97.60, 8536.90.80.85, 8538.10.00.00, 8543.90.88.80, 8708.29.50.60, 8708.80.65.90, 8803.30.00.60, 9013.90.50.00, 9013.90.90.00, 9401.90.50.81, 9403.90.10.40, 9403.90.10.50, 9403.90.10.85, 9403.90.25.40, 9403.90.25.80, 9403.90.40.05, 9403.90.40.10, 9403.90.40.60, 9403.90.50.05, 9403.90.50.10, 9403.90.50.80, 9403.90.60.05, 9403.90.60.10, 9403.90.60.80, 9403.90.70.05, 9403.90.70.10, 9403.90.70.80, 9403.90.80.10, 9403.90.80.15, 9403.90.80.20, 9403.90.80.41, 9403.90.80.51, 9403.90.80.61, 9506.11.40.80, 9506.51.40.00, 9506.51.60.00, 9506.59.40.40, 9506.70.20.90, 9506.91.00.10, 9506.91.00.20, 9506.91.00.30, 9506.99.05.10, 9506.99.05.20, 9506.99.05.30, 9506.99.15.00, 9506.99.20.00, 9506.99.25.80, 9506.99.28.00, 9506.99.55.00, 9506.99.60.80, 9507.30.20.00, 9507.30.40.00, 9507.30.60.00, 9507.90.60.00, and 9603.90.80.50.

The subject merchandise entered as parts of other aluminum products may be classifiable under the following additional Chapter 76 subheadings: 7610.10, 7610.90, 7615.19, 7615.20, and 7616.99, as well as under other HTSUS chapters. In addition, fin evaporator coils may be classifiable under HTSUS numbers: 8418.99.80.50 and 8418.99.80.60. While HTSUS subheadings are provided for convenience and customs purposes, the written description of the scope of this order is dispositive.⁵

⁵ See Preliminary Decision Memorandum for a complete description of the scope of the order.

Methodology

Commerce is conducting this review in accordance with section 751(a)(1)(A) of the Tariff Act of 1930, as amended (the Act). For purposes of this review Commerce preliminarily finds that all programs previously countervailed in prior segments of this proceeding, remain countervailable—that is, they provide a financial contribution within the meaning of sections 771(5)(B)(i) and (D) of the Act, confer a benefit within the meaning of section 771(5)(B) of the Act, and are specific within the meaning of 771(5A) of the Act.

For a full description of the methodology underlying our preliminary conclusions, including our reliance on adverse facts available pursuant to sections 776(a) and (b) of the Act, see the Preliminary Decision Memorandum. As explained in the Preliminary Decision Memorandum, Commerce relied on adverse facts available because the five companies that remain under review (i.e., Anshan, Foshan, Jangho H.K., Sihui Shi, and Sincere Profit) did not act to the best of their ability in responding to Commerce's requests for information, and consequently, we have drawn an adverse inference, where appropriate, in selecting from among the facts otherwise available.⁶ For further information, see “Use of Facts Otherwise Available and Adverse Inferences” in the Preliminary Decision Memorandum.

⁶ See sections 776(a) and (b) of the Act.

Intent To Rescind Review, In Part

For those companies named in the Initiation Notice for which all review requests have been timely withdrawn,⁷ we intend to rescind this administrative review in accordance with 19 CFR 351.213(d)(1). These companies are listed at Appendix II to this notice. For these companies, Commerce intends to assess duties at rates equal to the rates of the cash deposits for estimated countervailing duties required at the time of entry, or withdrawn from warehouse, for consumption, during the POR, in accordance with 19 CFR 351.212(c)(2).

⁷ See Petitioner and Endura Withdrawal Request; see also, Columbia Withdrawal Request and Columbia Revised Withdrawal Request.

Preliminary Results

Commerce preliminarily determines that the following estimated countervailable subsidy rates exist: ⁸

⁸ See Preliminary Decision Memorandum at “Use of Adverse Facts Available” and “Ad Valorem Rate for Non-Cooperative Companies Under Review.”

Company | Ad valorem rate (percent)
Anshan Zhongjda Industry Co. Ltd | 201.09
Foshan Sanshui Fenglu Aluminum Co | 201.09
Jangho Curtain Wall Hong Kong Ltd | 201.09
Sihui Shi Guoyao Aluminum Co., Ltd | 201.09
Sincere Profit Ltd | 201.09

Assessment Rates

In accordance with 19 CFR 351.221(b)(4)(i), we preliminarily assigned subsidy rates in the amounts shown above for the producer/exporters shown above. Upon completion of the administrative review, consistent with section 751(a)(1) of the Act and 19 CFR 351.212(b)(2), Commerce shall determine, and U.S. Customs and Border Protection (CBP) shall assess, countervailing duties on all appropriate entries covered by this review. We intend to issue assessment instructions to CBP 15 days after publication of the final results of this review.

Cash Deposit Requirements

Pursuant to section 751(a)(2)(C) of the Act, Commerce also intends upon publication of the final results to instruct CBP to collect cash deposits of estimated countervailing duties in the amounts indicated above for each company listed on shipments of subject merchandise entered, or withdrawn from warehouse, for consumption on or after the date of publication of the final results of this administrative review. For all non-reviewed firms, we intend to instruct CBP to collect cash deposits of estimated countervailing duties at the most recent company-specific or all-others rate applicable to the company, as appropriate. These cash deposit requirements, when imposed, shall remain in effect until further notice.

Disclosure

Normally, Commerce discloses to interested parties the calculations performed in connection with the preliminary results of review within five days of its public announcement, or if there is no public announcement, within five days of the date of publication of this notice in accordance with 19 CFR 351.224(b). However, we have assigned a net subsidy rate based on total adverse facts available to the five companies for which requests for review were not withdrawn (each failed to submit a response to Commerce's quantity and value (Q&V) questionnaire), in accordance with section 776 of the Act. For information detailing the derivation of the adverse facts available (AFA) rate applied, see AFA Calculation Memorandum.⁹

⁹ See Memorandum “Administrative Review of Countervailing Duty Order on Aluminum Extrusions from the People's Republic of China: AFA Calculation Memorandum for the 2017 Preliminary Results of Review,” dated March 12, 2019.

Public Comment

Interested parties may submit written case briefs no later than 30 days after the date of publication of the preliminary results. Rebuttal briefs, limited to issues raised in case briefs, may be submitted no later than five days after the deadline date for case briefs.¹⁰ Pursuant to 19 CFR 351.309(c)(2) and (d)(2), parties who submit case briefs or rebuttal briefs in this investigation are encouraged to submit with each argument: (1) A statement of the issue; (2) a brief summary of the argument; and (3) a table of authorities.¹¹

¹⁰ See 19 CFR 351.309; see also 19 CFR 351.303 (for general filing requirements).

¹¹ See 19 CFR 351.309(c)(2) and (d)(2).

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, Commerce intends to hold the hearing at the U.S. Department of Commerce, 1401 Constitution Avenue NW, Washington, DC 20230, at a time and date to be determined. Parties should confirm by telephone the date, time, and location of the hearing two days before the scheduled date. Issues addressed at the hearing will be limited to those raised in the briefs.¹² All case and rebuttal briefs and hearing requests must be filed electronically and received successfully in their entirety through ACCESS by 5:00 p.m. Eastern Time on the due date.

¹² See 19 CFR 351.310(c).

Unless the deadline is extended pursuant to section 751(a)(3)(A) of the Act, we intend to issue the final results of this administrative review, including the results of our analysis of the issues raised by the parties in their comments, within 120 days after issuance of these preliminary results.

Notification to Interested Parties

These preliminary results are issued and published pursuant to sections 751(a)(1) and 777(i)(1) of the Act and 19 CFR 351.221(b)(4).

Dated: March 7, 2019.
Gary Taverman,
Deputy Assistant Secretary for Antidumping and Countervailing Duty Operations, performing the non-exclusive functions and duties of the Assistant Secretary for Enforcement and Compliance.

Appendix I

List of Topics Discussed in the Preliminary Decision Memorandum

I. Summary

II. Background

III. Intent To Rescind the Review, In Part

IV. Scope of the Order

V. Use of Adverse Facts Available (AFA)

VI. Ad Valorem Rate for Non-Cooperative Companies Under Review

VII. Conclusion

Appendix II

List of Companies for Which We Intend To Rescind this Administrative Review

1. Acro Import and Export Co.

2. Activa International Inc.

3. Activa Leisure Inc.

4. Allied Maker Limited

5. Alnan Aluminum Co., Ltd.

6. Alnan Aluminum Ltd.

7. Aluminicaste Fundicion de Mexico

8. AMC Ltd.

9. AMC Limited

10. Anji Chang Hong Chain Manufacturing

11. Aoda Aluminium (Hong Kong) Co., Limited

12. AsiaAlum Group

13. Atlas Integrated Manufacturing Ltd.

14. Belton (Asia) Development Limited

15. Belton (Asia) Development Ltd.

16. Birchwoods (Lin'an) Leisure Products Co., Ltd.

17. Bolnar Hong Kong Ltd.

18. Bracalente Metal Products (Suzhou) Co., Ltd.

19. Brilliance General Equipment Co., Ltd.

20. Changshu Changshen Aluminum Products Co., Ltd.

21. Changshu Changsheng Aluminum Products Co., Ltd.

22. Changzhou Changzhen Evaporator Co., Ltd.

23. Changzhou Changzheng Evaporator Co., Ltd.

24. Changzhou Tenglong Auto Accessories Manufacturing Co. Ltd.

25. Changzhou Tenglong Auto Parts Co., Ltd.

26. Changzhou Tenglong Auto Parts Co Ltd.

27. China Square

28. China Square Industrial Co.

29. China Square Industrial Ltd.

30. China Zhongwang Holdings, Ltd.

31. Chiping One Stop Industrial & Trade Co., Ltd.

32. Classic & Contemporary Inc.

33. Clear Sky Inc.

34. Cosco (J.M.) Aluminum Co., Ltd.

35. Cosco (JM) Aluminum Development Co. Ltd.

36. Dalian Huacheng Aquatic Products

37. Dalian Liwang Trade Co., Ltd.

38. Danfoss Micro Channel Heat Exchanger (Jia Xing) Co., Ltd.

39. Daya Hardware Co. Ltd.

40. Dongguan Dazhan Metal Co., Ltd.

41. Dongguang Aoda Aluminum Co., Ltd.

42. Dongguan Golden Tiger Hardware Industrial Co., Ltd.

43. Dragonluxe Limited

44. Dynabright International Group (HK) Ltd.

45. Dynamic Technologies China

46. ETLA Technology (Wuxi) Co. Ltd.

47. Ever Extend Ent. Ltd.

48. Fenghua Metal Product Factory

49. First Union Property Limited

50. FookShing Metal & Plastic Co. Ltd.

51. Foreign Trade Co. of Suzhou New & High-Tech Industrial Development Zone

52. Foshan City Nanhai Hongjia Aluminum Alloy Co., Ltd.

53. Foshan Golden Source Aluminum Products Co., Ltd.

54. Foshan Guangcheng Aluminium Co., Ltd.

55. Foshan Jinlan Aluminum Co. Ltd.

56. Foshan JinLan Aluminum Co., Ltd.

57. Foshan JMA Aluminum Company Limited

58. Foshan Nanhai Niu Yuan Hardware Product Co., Ltd.

59. Foshan Shunde Aoneng Electrical Appliances Co., Ltd

60. Foshan Yong Li Jian Aluminum Co., Ltd.

61. Fujian Sanchuan Aluminum Co., Ltd.

62. Fukang Aluminum & Plastic Import and Export Co., Ltd.

63. Fuzhou Sunmodo New Energy Equipment

64. Gaotang Xinhai Economy & Trade Co., Ltd.

65. Genimex Shanghai, Ltd.

66. Global Hi-Tek Precision Co. Ltd

67. Global PMX Dongguan Co., Ltd.

68. Global Point Technology (Far East) Limited

69. Gold Mountain International Development, Ltd.

70. Golden Dragon Precise Copper Tube Group, Inc.

71. Gran Cabrio Capital Pte. Ltd.

72. Gree Electric Appliances

73. GT88 Capital Pte. Ltd.

74. Guang Ya Aluminium Industries Co. Ltd.

75. Guang Ya Aluminum Industries Company Ltd.

76. Guang Ya Aluminium Industries (HK) Ltd.

77. Guangcheng Aluminum Co., Ltd.

78. Guangdong Hao Mei Aluminum Co., Ltd.

79. Guangdong Jianmei Aluminum Profile Company Limited

80. Guangdong JMA Aluminum Profile Factory (Group) Co., Ltd.

81. Guangdong Midea

82. Guangdong Midea Microwave and Electrical Appliances

83. Guangdong Nanhai Foodstuffs Imp. & Exp. Co., Ltd.

84. Guangdong Weiye Aluminum Factory Co., Ltd.

85. Guangdong Whirlpool Electrical Appliances Co., Ltd.

86. Guangdong Xingfa Aluminum Co., Ltd.

87. Guangdong Xin Wei Aluminum Products Co., Ltd.

88. Guangdong Yonglijian Aluminum Co., Ltd.

89. Guangdong Zhongya Aluminum Company Ltd.

90. Guangzhou Jangho Curtain Wall System Engineering Co., Ltd.

91. Guangzhou Mingcan Die-Casting Hardware Products Co., Ltd.

92. Hangzhou Xingyi Metal Products Co., Ltd.

93. Hanwood Enterprises Limited

94. Hanyung Alcoba Co., Ltd.

95. Hanyung Alcobis Co., Ltd.

96. Hanyung Metal (Suzhou) Co., Ltd.

97. Hao Mei Aluminum Co., Ltd.

98. Hao Mei Aluminum International Co., Ltd.

99. Hebei Xusen Wire Mesh Products Co., Ltd.

100. Henan New Kelong Electrical Appliances Co., Ltd.

101. Henan Zhongduo Aluminum Magnesium New Material Co., Ltd.

102. Hong Kong Gree Electric Appliances Sales Limited

103. Hong Kong Modern Non-Ferrous Metal

104. Honsense Development Company

105. Houztek Architectural Products Co., Ltd.

106. Hui Mei Gao Aluminum Foshan Co., Ltd.

107. Huixin Aluminum

108. IDEX Dinglee Technology (Tianjin) Co., Ltd.

109. IDEX Health

110. IDEX Technology Suzhou Co., Ltd.

111. Innovative Aluminum (Hong Kong) Limited

112. iSource Asia

113. Jackson Travel Products Co., Ltd.

114. Jiangmen Jianghai District Foreign Economic Enterprise Corp. Ltd.

115. Jiangmen Jianghai Foreign Ent. Gen.

116. Jiangmen Qunxing Hardware Diecasting Co., Ltd.

117. Jiangsu Changfa Refrigeration Co.

118. Jiangyin Suncitygaylin

119. Jiangyin Trust International Inc.

120. Jiangyin Xinhong Doors and Windows Co., Ltd.

121. Jiaxing Jackson Travel Products Co., Ltd.

122. Jiaxing Taixin Metal Products Co., Ltd.

123. Jiuyan Co., Ltd.

124. JMA (HK) Company Limited

125. Johnson Precision Engineering (Suzhou) Co., Ltd.

126. Justhere Co., Ltd.

127. Kam Kiu Aluminum Products Sdn Bhd

128. Kanal Precision Aluminum Product Co., Ltd.

129. Karlton Aluminum Company Ltd.

130. Kong Ah International Company Limited

131. Kromet International Inc.

132. Kromet Intl Inc.

133. Kromet International

134. Kunshan Giant Light Metal Technology Co., Ltd.

135. Liaoning Zhong Da Industrial Aluminum Co., Ltd.

136. Liaoning Zhongwang Group Co., Ltd.

137. Liaoyang Zhongwang Aluminum Profile Co. Ltd.

138. Longkou Donghai Trade Co., Ltd.

139. Metal Tech Co Ltd.

140. Metaltek Group Co., Ltd.

141. Metaltek Metal Industry Co., Ltd.

142. Midea Air Conditioning Equipment Co., Ltd.

143. Midea Electric Trading Co., Pte Ltd.

144. Midea International Trading Co., Ltd.

145. Midea International Training Co., Ltd.

146. Miland Luck Limited

147. Nanhai Textiles Import & Export Co., Ltd.

148. New Asia Aluminum & Stainless Steel Product Co., Ltd.

149. New Zhongya Aluminum Factory

150. Nidec Sankyo (Zhejang) Corporation

151. Nidec Sankyo Zhejiang Corporation

152. Nidec Sankyo Singapore Pte. Ltd.

153. Ningbo Coaster International Co., Ltd.

154. Ningbo Hi Tech Reliable Manufacturing Company

155. Ningbo Innopower Tengda Machinery

156. Ningbo Ivy Daily Commodity Co., Ltd.

157. Ningbo Yili Import and Export Co., Ltd.

158. North China Aluminum Co., Ltd.

159. North Fenghua Aluminum Ltd.

160. Northern States Metals

161. PanAsia Aluminum (China) Limited

162. Pengcheng Aluminum Enterprise Inc.

163. Permasteelisa Hong Kong Limited

164. Permasteelisa South China Factory

165. Pingguo Aluminum Company Limited

166. Pingguo Asia Aluminum Co., Ltd.

167. Popular Plastics Company Limited

168. Precision Metal Works Ltd.

169. Press Metal International Ltd.

170. Samuel, Son & Co., Ltd.

171. Sanchuan Aluminum Co., Ltd.

172. Sanhua (Hangzhou) Micro Channel Heat Exchanger Co., Ltd.

173. Shandong Fukang Aluminum & Plastic Co. Ltd.

174. Shandong Huajian Aluminum Group

175. Shangdong Huasheng Pesticide Machinery Co.

176. Shangdong Nanshan Aluminum Co., Ltd.

177. Shanghai Automobile Air-Conditioner Accessories Co Ltd.

178. Shanghai Automobile Air Conditioner Accessories Ltd.

179. Shanghai Canghai Aluminum Tube Packaging Co., Ltd.

180. Shanghai Dofiberone Composites Co. Ltd.

181. Shanghai Dongsheng Metal

182. Shanghai Shen Hang Imp & Exp Co., Ltd.

183. Shanghai Tongtai Precise Aluminum Alloy Manufacturing Co. Ltd.

184. Shanghai Top-Ranking Aluminum Products Co., Ltd.

185. Shanghai Top-Ranking New Materials Co., Ltd.

186. Shenyang Yuanda Aluminum Industry Engineering Co. Ltd.

187. Shenzhen Hudson Technology Development Co.

188. Shenzhen Jiuyuan Co., Ltd.

189. Skyline Exhibit Systems (Shanghai) Co. Ltd.

190. Southwest Aluminum (Group) Co., Ltd.

191. Summit Heat Sinks Metal Co., Ltd.

192. Summit Plastics Nanjing Co. Ltd.

193. Suzhou JRP Import & Export Co., Ltd.

194. Suzhou New Hongji Precision Part Co.

195. Tai-Ao Aluminum (Taishan) Co. Ltd.

196. Taishan City Kam Kiu Aluminium Extrusion Co., Ltd.

197. Taitoh Machinery Shanghai Co. Ltd.

198. Taizhou Lifeng Manufacturing Co., Ltd.

199. Tiazhou Lifeng Manufacturing Corporation

200. Taizhou United Imp. & Exp. Co., Ltd.

201. tenKsolar (Shanghai) Co., Ltd.

202. Tianjin Ganglv Nonferrous Metal Materials Co., Ltd.

203. Tianjin Jinmao Import & Export Corp., Ltd.

204. Tianjin Ruxin Electric Heat Transmission Technology Co., Ltd.

205. Tianjin Xiandai Plastic & Aluminum Products Co., Ltd.

206. Top-Wok Metal Co., Ltd.

207. Traffic Brick Network, LLC

208. Union Aluminum (SIP) Co.

209. Union Industry (Asia) Co., Ltd.

210. USA Worldwide Door Components (Pinghu) Co., Ltd.

211. Wenzhou Shengbo Decoration & Hardware

212. Wenzhou Yongtai Electric Co., Ltd.

213. Whirlpool (Guangdong)

214. Whirlpool Canada L.P.

215. Whirlpool Microwave Products Development Ltd.

216. Worldwide Door Components, Inc.

217. WTI Building Products, Ltd.

218. Wuxi Lutong Fiberglass Doors Co., Ltd.

219. Xin Wei Aluminum Co.

220. Xin Wei Aluminum Company Limited

221. Xinya Aluminum & Stainless Steel Product Co., Ltd.

222. Yuyao Fanshun Import & Export Co., Ltd.

223. Yuyao Haoshen Import & Export

224. Zahoqing China Square Industry Limited

225. Zhaoqing Asia Aluminum Factory Company Ltd.

226. Zhaoqing China Square Industrial Ltd.

227. Zhaoqing China Square Industry Limited

228. Zhaoqing New Zhongya Aluminum Co., Ltd.

229. Zhejiang Anji Xinxiang Aluminum Co., Ltd.

230. Zhejiang Lilies Industrial and Commercial Co.

231. Zhejiang Yili Automobile Air Condition Co., Ltd.

232. Zhejiang Yongkang Listar Aluminum Industry Co., Ltd.

233. Zhejiang Zhengte Group Co., Ltd.

234. Zhenjiang Xinlong Group Co., Ltd.

235. Zhongshan Daya Hardware Co., Ltd.

236. Zhongshan Gold Mountain Aluminum Factory Ltd.

237. Zhongya Shaped Aluminum (HK) Holding Limited

238. Zhuhai Runxingtai Electrical Equipment Co., Ltd.

[FR Doc. 2019-04881 Filed 3-14-19; 8:45 am]

BILLING CODE 3510-DS-P